DEPARTMENT OF COMMERCE

Foreign-Trade Zones Board

[B-27-2022]

Foreign-Trade Zone (FTZ) 149—Freeport, Texas; Notification of Proposed Production Activity; Maxter Healthcare Inc. (Medical Examination Disposable Gloves); Brazoria County, Texas

Port Freeport, grantee of FTZ 149, submitted a notification of proposed production activity to the FTZ Board (the Board) on behalf of Maxter Healthcare Inc., located in Brazoria County, Texas under FTZ 149. The notification conforming to the requirements of the Board's regulations (15 CFR 400.22) was received on June 24, 2022.

Pursuant to 15 CFR 400.14(b), FTZ production activity would be limited to the specific foreign-status materials/components and specific finished products described in the submitted notification (summarized below) and subsequently authorized by the Board. The benefits that may stem from conducting production activity under FTZ procedures are explained in the background section of the Board's website—accessible via www.trade.gov/ftz.

The proposed finished products include seamless gloves, surgical gloves and, examination gloves (duty-free).

The proposed foreign-status materials and components include: aqueous carbon black dispersion; blue and violet color pigment dispersion; blue and violet color pigment dispersion containing carbazole violet 23; red color pigment dispersion; aqueous sulphur; aqueous zinc oxide; aqueous zinc di-n-butyldithiocarbamate; sodium dodecylbenzene sulphonate; aqueous titanium dioxide dispersion (60% titanium dioxide); petroleum wax; zinc dietyldithiocarbamate; potassium hydroxide; aqueous acrylic polymer; calcium stearate-based release agent; alkaline cleaner; calcium carbonate; alkoxylated wetting agent; white mineral oil based defoamer; calcium nitrate; nitric acid; sodium hydroxide; aqueous sodium hypochlorite; aqueous ammonia; carboxylated butadiene-acrylonitrile copolymer; aluminum sulphate; acrylamide and sodium acrylate coploymer; activated carbon; carbamide; and, sulphuric acid (duty rate ranges from duty-free to 6.5%). The request indicates that blue and violet color pigment dispersion containing carbazole violet 23 and activated carbon are subject to antidumping/countervailing duty (AD/CVD) orders if imported from certain countries. The Board's regulations (15 CFR 400.14(e)) require that merchandise subject to AD/CVD orders, or items which would be otherwise subject to suspension of liquidation under AD/CVD procedures if they entered U.S. customs territory, be admitted to the zone in privileged foreign (PF) status (19 CFR 146.41). The request also indicates that certain materials/components are subject to duties under Section 301 of the Trade Act of 1974 (Section 301), depending on the country of origin. The applicable Section 301 decisions require subject merchandise to be admitted to FTZs in PF status.

Public comment is invited from interested parties. Submissions shall be addressed to the Board's Executive Secretary and sent to: ftz@trade.gov. The closing period for their receipt is August 16, 2022.

A copy of the notification will be available for public inspection in the “Online FTZ Information System” section of the Board's website.

For further information, contact Christopher Wedderburn at Chris.Wedderburn@trade.gov.

Dated: June 30, 2022.
Andrew McGilvray,
Executive Secretary.

[FR Doc. 2022-14416 Filed 7-6-22; 8:45 am]

BILLING CODE 3510-DS-P